DEPARTMENT OF THE TREASURY

Internal Revenue Service

26 CFR Part 301

[REG-123376-22]

RIN 1545-BQ74

Disclosures of Return Information Reflected on Returns to Officers and Employees of the Department of Commerce, Including the Bureau of the Census, for Certain Statistical Purposes and Related Activities; Correction

AGENCY: Internal Revenue Service (IRS), Treasury.

ACTION: Notice of proposed rulemaking; correction.

SUMMARY: This document corrects a notice of proposed rulemaking (REG-123376-22) published in the Federal Register on March 29, 2024, containing proposed amendments to the regulations relating to the disclosure of specified return information to the Bureau of the Census (Bureau).

DATES: The deadline for submitting written or electronic comments on the proposed rule was April 29, 2024.

FOR FURTHER INFORMATION CONTACT: Concerning the proposed regulations, contact Elizabeth Erickson of the Office of the Associate Chief Counsel (Procedure and Administration), at (202) 317-6834 (not a toll-free number); concerning submissions of comments or the public hearing, Vivian Hayes, (202) 317-6901 (not toll-free number) or by email to publichearings@irs.gov (preferred).

SUPPLEMENTARY INFORMATION:

Background

The notice of proposed rulemaking (REG-123376-22) that is the subject of this correction is under section 6103 (j)(1)(A) of the Code.

Need for Correction

As published, the notice of proposed rulemaking (REG-123376-22) contains errors that needs to be corrected.

Correction of Publication

Accordingly, the notice of proposed rulemaking (REG-123376-22) that is the subject of FR Doc. 2024-06756, published on March 29, 2024, is corrected on page 22106, in § 301.6103(j)(1)-1, in the first column, the third line of paragraph (b)(3)(iii) is corrected to read, “pursuant to paragraph (b)(1)(ii)(H)(1), (2),”.

Oluwafunmilayo A. Taylor,
Section Chief, Publications and Regulations Section, Associate Chief Counsel (Procedure and Administration).

[FR Doc. 2024-10871 Filed 5-16-24; 8:45 am]

BILLING CODE 4830-01-P